DEPARTMENT OF TRANSPORTATION

Federal Aviation Administration

14 CFR Part 39

[Docket No. 99-NE-42-AD; Amendment 39-11650; AD 2000-06-09]

RIN 2120-AA64

Airworthiness Directives; Turbomeca Arrius 1A Series Turboshaft Engines

AGENCY: Federal Aviation Administration, DOT.

ACTION: Final rule.

SUMMARY: This amendment adopts a new airworthiness directive (AD), applicable to Turbomeca Arrius 1A series turboshaft engines, that requires installation of module TU63, which provides a separate supply of fuel for one of the 10 main injectors of the fuel injection system. This action is prompted by reports of unexpected power loss during test flights. The actions specified by this AD are intended to prevent unexpected power loss, which could result in an uncommanded in-flight engine shutdown, autorotation, and forced landing.

DATES: Effective June 12, 2000. The incorporation by reference of certain publications in this rule is approved by the Director of the Federal Register as of June 12, 2000.

ADDRESSES: The service information referenced in the rule may be obtained from Turbomeca, 40220 Tarnos, France; telephone (33) 05 59 64 40 00, fax (33) 05 59 64 60 80. This information may be examined at the FAA, New England Region, Office of the Regional Counsel, 12 New England Executive Park, Burlington, MA.

FOR FURTHER INFORMATION CONTACT: Glorianne Niebuhr, Aerospace Engineer, Engine Certification Office, FAA, Engine and Propeller Directorate, 12 New England Executive Park, Burlington, MA 01803-5299; telephone (781) 238-7132, fax (781) 238-7199.

SUPPLEMENTARY INFORMATION: A proposal to amend part 39 of the Federal Aviation Regulations (14 CFR part 39) to include an airworthiness directive (AD) that is applicable to Turbomeca Turboshaft Arrius 1A series turboshaft engines was published in the Federal Register on December 1, 1999 (64 FR 67206). That action proposed to require installation of module TU63, which provides a separate supply of fuel for one of the 10 main injectors of the fuel injection system. That action was prompted by reports of cracked injection wheels. That condition, if not corrected, could result in an unexpected power loss, which could result in an in-flight engine shutdown, autorotation, and a forced landing.

Comments Received

Interested persons have been afforded an opportunity to participate in the making of this amendment. No comments were received.

Economic Analysis

There are approximately 100 engines of the affected design in the worldwide fleet. The FAA estimates that nine engines installed on aircraft of US registry would be affected by this AD, that it would take approximately 1 work hour per engine to accomplish the actions, and that the average labor rate is $60 per work hour. Required parts would cost approximately $5,500 per engine. Based on these figures, the total cost impact of the AD on US operators is estimated to be $50,040. The manufacturer has advised the DGAC that they may provide module TU63 at no cost to the operator, thereby substantially reducing the cost impact of this rule.

Regulatory Impact

This rule does not have federalism implications, as defined in Executive Order 13132, because it would not have a substantial direct effect on the States, on the relationship between the national government and the States, or on the distribution of power and responsibilities among the various levels of government. Accordingly, the FAA has not consulted with state authorities prior to publication of this rule.

For the reasons discussed above, I certify that this action (1) Is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-06-09 Turbomeca: Amendment 39-11650. Docket 99-NE-42-AD.

Applicability: Turbomeca Arrius 1A series turboshaft engines, installed on but not limited to Ecureuil AD355 series helicopters.

Note 1: This airworthiness directive (AD) applies to each engine identified in the preceding applicability provision, regardless of whether it has been modified, altered, or repaired in the area subject to the requirements of this AD. For engines that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously. To prevent unexpected power loss, which could result in an uncommanded in-flight engine shutdown, autorotation, and forced landing, accomplish the following:

Installation of Module TU63

(a) Install module TU63 in accordance with the Instructions for Incorporation of Turbomeca Arrius Service Bulletin (SB) No. 319 73 0016, Revision 1, dated December 22, 1997, at the earliest of the following after the effective date of this AD:

(1). The next shop visit, or

(2). Within 120 cycles-in-service, or

(3). Within 30 days.

Definition

(b) For the purpose of this AD, a shop visit is defined as whenever the engine is removed from the helicopter for maintenance.

Alternative Methods of Compliance

(c) An alternative method of compliance or adjustment of the compliance time that provides an acceptable level of safety may be used if approved by the Manager, Engine Certification Office. Operators shall submit their request through an appropriate FAA Principal Maintenance Inspector, who may add comments and then send it to the Manager, Engine Certification Office.

Note 2: Information concerning the existence of approved alternative methods of compliance with this airworthiness directive, if any, may be obtained from the Engine Certification Office.

Ferry Flights

(d) Special flight permits may be issued in accordance with sections 21.197 and 21.199 of the Federal Aviation Regulations (14 CFR 21.197 and 21.199) to operate the aircraft to a location where the requirements of this AD can be accomplished.

Incorporation by Reference

(e) The actions required by this AD shall be done in accordance with Turbomeca Arrius Service Bulletin (SB) No. 319 73 0016, Revision 1, dated December 22, 1997. This incorporation by reference was approved by the Director of the Federal Register in accordance with 5 U.S.C. 552(a) and 1 CFR part 51. Copies may be obtained from Turbomeca, 40220 Tarnos, France; telephone (33) 05 59 64 40 00, fax (33) 05 59 64 60 80. This information may be examined at the FAA, New England Region, Office of the Regional Counsel, 12 New England Executive Park, Burlington, MA; or at the Office of the Federal Register, 800 North Capitol Street, NW, suite 700, Washington, DC.

(f) This amendment becomes effective on June 12, 2000.

Issued in Burlington, Massachusetts, on March 20, 2000.
David A. Downey,
Assistant Manager, Engine and Propeller Directorate, Aircraft Certification Service.

[FR Doc. 00-7456 Filed 4-10-00; 8:45 am]

BILLING CODE 4910-13-U